DEPARTMENT OF ENERGY

Federal Energy Regulatory Commission

[Docket No. AD12-8-000]

Commission Information Collection Activities (FERC-922); Comment Request

AGENCY: Federal Energy Regulatory Commission, DOE.

ACTION: Comment request.

SUMMARY: In compliance with the requirements of the Paperwork Reduction Act of 1995, 44 USC 3507(a)(1)(D), the Federal Energy Regulatory Commission (Commission or FERC) is submitting the new information collection FERC-922, “Performance Metrics in Regions Outside ISOs and RTOs,” to the Office of Management and Budget (OMB) for review of the information collection requirements. Any interested person may file comments directly with OMB and should address a copy of those comments to the Commission as explained below. The Commission issued a Notice in the Federal Register (77 FR 12832, 3/2/2012) requesting public comments. FERC received a comment from Edison Electric Institute (EEI) regarding the burden estimate as discussed further below. FERC also received comments on the specific metrics. These latter comments are summarized and addressed in the Commission Staff Report. The Commission Staff Report can be obtained via the Commission's eLibrary system (at http://www.ferc.gov/docs-filing/elibrary.asp) by searching under Docket No. AD12-8. The report will not be published in the Federal Register.

DATES: Comments on the collection of information are due by November 21, 2012.

ADDRESSES: Comments filed with OMB, identified by FERC-922, should be sent via email to the Office of Information and Regulatory Affairs: oira_submission@omb.gov. Attention: Federal Energy Regulatory Commission Desk Officer. The Desk Officer may also be reached via telephone at 202-395-4718.

A copy of the comments should also be sent to the Federal Energy Regulatory Commission, identified by the Docket No. AD12-8-000, by either of the following methods:

• eFiling at Commission's Web Site: http://www.ferc.gov/docs-filing/efiling.asp.

• Mail/Hand Delivery/Courier: Federal Energy Regulatory Commission, Secretary of the Commission, 888 First Street, NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION:

Title: FERC-922, Performance Metrics in Regions outside ISOs and RTOs.

OMB Control No.: To be determined.

Type of Request: Approval of a new information collection.

Abstract: The collection of information requires those public utilities outside of ISOs and RTOs that choose to participate to provide information responding to the attached metrics on a periodic basis. This includes the submission of price data and information relating to reliability, transmission planning, requests for service, and system capacity. The information submitted by participating utilities would be used to help develop a common set of metrics for both ISO/RTO markets and non-ISO/RTO markets, and for evaluating market performance thereafter.

The Chairman has reviewed the proposed metrics and has determined that the metrics and data gathered thereunder are necessary. These requirements conform to the Commission's need for efficient information collection, communication, and management within the energy industry. The Chairman is assured, by means of internal review, that there is specific, objective support for the burden estimates associated with the information collection requirements.

Type of Respondents: Participants in Non-ISO/RTO markets.

Comment on Burden Estimate: In its solicitation for comments, Commission Staff estimated the public reporting burden for participating utilities to be approximately 140 hours per respondent for each report.

Comment

EEI asserts that the response time could be as high as 300-400 hours.

Response

Commission Staff will adjust the burden estimate based on EEI's high estimate of 300-400 hours. Commission Staff considers EEI's estimate to reflect the most time that it would take an entity to respond to the metrics. While Commission Staff recognizes that this report requires additional metrics and narrative discussions, Commission Staff nevertheless continues to conclude that 140 hours still represents a reasonable estimate of the burden, since much of the data required should be readily available to the responding utilities. However, in recognition of the fact that the burden will vary from entity to entity, we will revise our estimate to 245 hours per respondent, which is the mid-point between these estimates.

Estimate of Annual Burden: ¹ Commission Staff estimates the total Public Reporting Burden for this information collection as:

¹ Burden is defined as the total time, effort, or financial resources expended by persons to generate, maintain, retain, or disclose or provide information to or for a Federal agency. For further explanation of what is included in the information collection burden, see 5 CFR 1320.3 (2012).

FERC-922 requirements | Number of respondents annually | Number of responses per respondent | Average burden hours per response | Total annual burden hours
| (1) | (2) | (3) | (1)×(2)×(3)
Metrics Data Collection |  |  | 140 | 1,540
Write Performance Analysis | 11 | 1 | 85 | 935
Management Review |  |  | 20 | 220
Total |  |  |  | 2,695

Cost to Comply: Commission Staff has projected the cost of compliance to be $184,460.

Technical Expertise = $168,300 (1,540 hours data collection + 935 hours report completion @ $68 per hour).

Management Review = $17,160 (220 hours report review @ $78 per hour).

Cost per hour figures are calculated using Bureau of Labor Statistics (BLS) data.² The technical expertise category factors in the median wage for an engineer, analyst, attorney and economist. The management category factors in the median wage for general and operations managers. Based on BLS data,³ both cost figures have been adjusted to include benefits (benefits represent 29.5% of the total hourly figure).

² See http://bls.gov/oes/current/naics3_221000.htm.

³ See http://www.bls.gov/news.release/ecec.nr0.htm.

Dated: October 15, 2012.
Kimberly D. Bose,
Secretary.

[FR Doc. 2012-25817 Filed 10-19-12; 8:45 am]

BILLING CODE 6717-01-P